DEPARTMENT OF COMMERCE

National Oceanic and Atmospheric Administration

Solicitation for Members of the Ocean Exploration Advisory Board

AGENCY: Office of Oceanic and Atmospheric Research, (OAR) National Oceanic and Atmospheric Administration (NOAA), Department of Commerce (DOC).

ACTION: Notice; correction.

SUMMARY: NOAA is soliciting nominations for Indigenous, Tribal, Native American, Alaska Native, or Native Hawaiian stakeholders from the Alaska or Pacific Ocean basin regions to join the Ocean Exploration Advisory Board (OEAB). The purpose of the OEAB is to advise the NOAA Administrator on matters pertaining to ocean exploration including (1) priority areas for survey and discovery; (2) development of a five-year strategic plan for the fields of ocean, marine, and Great Lake science, (3) exploration and discovery; and, (4) the annual review of the NOAA Ocean Exploration Competitive Grants Program process.

DATES: The closing date for soliciting members for the notice published on August 19, 2022 at 87 FR 51061 has been extended to November 18, 2022. Nominations should be sent to the email address specified below and must be received by November 18, 2022.

ADDRESSES: Applications should be submitted via email to Joanne Flanders: joanne.flanders@noaa.gov.

FOR FURTHER INFORMATION CONTACT: David Turner, Ocean Exploration Advisory Board, Designated Federal Officer: (859) 327-9661; david.turner@noaa.gov.

SUPPLEMENTARY INFORMATION: The OEAB functions as an advisory board in accordance with the Federal Advisory Committee Act (FACA), as amended, 5 U.S.C. app., with the exception of section 14. It reports to the NOAA Administrator, as directed by 33 U.S.C. 3405 and is provided staffing and other support by the NOAA Office of Ocean Exploration and Research.

At this time, NOAA is soliciting applications to fill up to two vacancies on the OEAB from individuals demonstrating expertise and experience in areas that include scientific research relevant to ocean exploration, ocean engineering, data science, deep ocean biology, geology, oceanography, marine archaeology, or ocean-science education and communication. NOAA will give particular consideration to applications from Indigenous, Tribal, Native American, Alaska Native, or Native Hawaiian stakeholders from the Alaska or Pacific Ocean basin regions, as such stakeholders' input will be valuable in generating advice specific to those regions and stakeholders. Individuals with expertise in other NOAA ocean exploration areas are also welcome to apply, as well as representatives of other federal agencies involved in ocean exploration. The OEAB members will serve a three-year term with the possibility of one renewal for an additional three-year term. The Board meets two to three times a year.

Composition and Points of View: The OEAB consists of approximately 10 members, including a chair and co-chair(s), designated by the NOAA Administrator in accordance with FACA requirements and the terms of the approved OEAB Charter and Balance Plan. OEAB members represent government agencies, the private sector, academic institutions, not-for-profit, and other institutions involved in all facets of ocean exploration—from advanced technology to citizen exploration. As a Federal Advisory Committee, OEAB membership is required to be balanced in terms of viewpoints represented and the functions to be performed as well as including the interest of geographic regions of the country and the diverse sectors of our society.

The OEAB was established: To advise the NOAA Administrator on priority areas for survey and discovery; assist the program in the development of a five-year strategic plan for the fields of ocean, marine, and Great Lakes science, exploration, and discovery; annually review the quality and effectiveness of the proposal review process established under section 12003(a)(4); and provide other assistance and advice as requested by the Administrator. In addition to advising NOAA leadership, NOAA expects the OEAB to help to define and develop a national program of ocean exploration—a network of U.S. stakeholders and partnerships advancing national priorities for ocean exploration.

OEAB members are appointed as Special Government Employees (SGEs) and will be subject to the ethical standards applicable to SGEs. Members are reimbursed for actual and reasonable expenses incurred in performing such duties, including travel costs, but will not be reimbursed for their time. All OEAB members serve at the discretion of the NOAA Administrator.

For more information about the OEAB, visit https://oeab.noaa.gov.

Although the OEAB reports directly to the NOAA Administrator, it is provided staffing and other support from the NOAA Office of Ocean Exploration and Research which is part of the Office of Oceanic and Atmospheric Research (OAR). NOAA Ocean Exploration and Research is the only U.S. federal organization dedicated to exploring the deep ocean and the program:

• Explores the ocean to make discoveries of scientific, economic, and cultural value, with priority given to the U.S. Exclusive Economic Zone and Extended Continental Shelf;

• Promotes technological innovation to advance ocean exploration;

• Provides public access to data and information;

• Encourages the next generation of ocean explorers, scientists, and engineers; and

• Expands the national ocean exploration program through partnerships.

For more information about the NOAA Office of Ocean Exploration and Research, visit https://oceanexplorer.noaa.gov.

Nominations: Interested persons may nominate themselves or third parties.

Applications: An application is required to be considered for Board membership, regardless of whether a person is nominated by a third party or self-nominated. The application package must include: (1) the nominee's full name, title, institutional affiliation, and contact information including mailing address, email address, and telephone number; (2) a resume (maximum length four [4] pages); and (3) a cover letter that includes a description of their qualifications relative to the kinds of advice being solicited by NOAA in this Notice.

Privacy Act Statement

Authority. The collection of information concerning nominations to the OEAB is authorized under the FACA, as amended, 5 U.S.C. app. and its implementing regulations, 41 CFR part 102-3, and in accordance with the Privacy Act of 1974, as amended, (Privacy Act) 5 U.S.C. 552a.

Purpose. The collection of names, contact information, resumes, professional information, and qualifications is required in order for the Under Secretary to appoint members to the OEAB.

Routine Uses. NOAA will use the nomination information for the purpose set forth above. The Privacy Act of 1974 authorizes disclosure of the information collected to NOAA staff for work-related purposes and for other purposes only as set forth in the Privacy Act and for routine uses published in the Privacy Act System of Records Notice COMMERCE/DEPT-11, Candidates for Membership, Members, and Former Members of Department of Commerce Advisory Committees, available at https://www.osec.doc.gov/opog/PrivacyAct/SORNs/dept-11.htm, and the System of Records Notice COMMERCE/DEPT-18, Employees Personnel Files Not Covered by Notices of Other Agencies, available at https://www.osec.doc.gov/opog/PrivacyAct/SORNs/DEPT-18.htm.

Disclosure. Furnishing the nomination information is voluntary; however, if the information is not provided, the individuals would not be considered for appointment as a member of the OEAB.

David Holst,
Chief Financial Officer/Administrative Officer, Office of Oceanic and Atmospheric Research, National Oceanic and Atmospheric Administration.

[FR Doc. 2022-22574 Filed 10-17-22; 8:45 am]

BILLING CODE 3510-KA-P